DEPARTMENT OF AGRICULTURE

Submission for OMB Review; Comment Request

June 20, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Noninsured Crop Disaster Assistance Program.

OMB Control Number: 0560-0175.

Summary of Collection: The Noninsured Crop Assistance Program (NAP) is authorized under 7 U.S.C. 7333 and implemented under regulations issued at 7 CFR Part 1437. The collection of crop planting and production data is necessary for the Commodity Credit Corporation (CCC) to calculate the producer's approved yield on the basis of actual production history. Information collection relative to the occurrence of crop damage or loss production and application for Noninsured Crop Disaster Assistance Program (NAP) is necessary for CCC to accept and consider a request for assistance under NAP and to facilitate eligibility determinations. NAP provides eligible producers of eligible crops with protection to the catastrophic risk protection plan of crop insurance. It helps reduce production risks faced by producers of crops for which Federal crop insurance is not available. It also reduces financial losses that occur when natural disasters cause a catastrophic loss of production or prevented planting of an eligible crop. The Farm Service Agency (FSA) will collect information using several forms.

Need and Use of the Information: FSA will collect the producer's name, address identification number, farm and tract, acreage, ownership, location, crop history, planted acreage, production, yield, share, etc. The information will be used to identify eligible NAP participants, acreage and location, crop and commodities. If information is not collected FSA will not be able to identify and determine eligible participants and crops being planted or produced, or provide assistance to agricultural producers who as a result of natural disaster have suffered catastrophic losses of agricultural crops or commodities.

Description of Respondents: Individuals or household.

Number of Respondents: 291,500.

Frequency of Responses: Recordkeeping; Reporting: On occasion; Weekly; monthly; annually.

Total Burden Hours: 2,143,562.

Ruth Brown,
Departmental Information Collection Clearance Officer.

[FR Doc. E7-12261 Filed 6-22-07; 8:45 am]

BILLING CODE 3410-05-P